DEPARTMENT OF AGRICULTURE

Submission for OMB Review; Comment Request

June 12, 2003.

The Department of Agriculture has submitted the following information collection requirement(s) to OMB for review and clearance under the Paperwork Reduction Act of 1995, Pub. L. 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Foreign Agricultural Service

Title: McGovern-Dole International Food for Education and Child Nutrition Program.

OMB Control Number: 0551-NEW.

Summary of Collection: The Farm Security and Rural Investment Act of 2002 requires reporting on food aid programs, including the new McGovern-Dole International Food for Education and Child Nutrition program (Food for Education). This program will provide agricultural commodities and financial and technical assistance, to carry out educational programs for food and nutrition in foreign countries. Although the number of report requirements vary in accordance with circumstances, reports will be received from the Cooperating Sponsor every six months during the active life of the agreements. Reporting will be required until all commodities have been distributed, cash outlays expended, and/or the funds generated from the sales of the donated commodities have been disbursed. Information is necessary to satisfy statutory requirements and to assure that public resources are properly used.

Need and Use of the Information: The Foreign Agricultural Service (FAS) will collect from cooperating sponsors a Plan of Operation (i.e., program proposal) and budget, which will be used to determine eligibility for participation. FAS will also collect information that describes the organizational capacity to develop, implement, monitor, and report on school feeding and child nutrition programs. Without the information, it would difficult for FAS to determine the accountability and compliance of the Cooperating Sponsors.

Description of Respondents: Not-for-profit institutions; Business or other for-profit.

Number of Respondents: 156.

Frequency of Responses: Recordkeeping; Reporting: Quarterly; Semi-annually.

Total Burden Hours: 11,607.

Animal and Plant Health Inspection Service

Title: Horse Protection Regulations (9 CFR part 11).

OMB Control Number: 0579-0056.

Summary of Collection: 9 CFR part 11, Regulations, implement the Horse Protection Act of 1970 (Pub. L. 91-540), as amended July 13, 1976 (Pub. L. 94-360), and are authorized under Section 9 of the Act. The Horse Protection Legislation was enacted to prevent showing, exhibiting, selling, or auctioning of “sore” horses, and certain transportation of sore horses in connection therewith at horse shows, horse exhibitions, horse sales, and horse auctions. A sore horse is a horse that has received pain-provoking practices that cause the horse to have an accentuated, high stepping gait. Sored horses cannot be entered in an event by any person, including trainers, riders, or owners. Management of shows, sales, exhibitions, or auctions must identify sored horses to prevent their participation under the act.

Need and Use of the Information: APHSI will collect information at specified intervals from Horse Industry Organizations (HIO) and show managements. HIOs must maintain an acceptable Designated Qualified Person program and recordkeeping system as outlined in the regulations. Information provided by the HIOs through designated qualified persons allows APHIS to monitor whether enforcement of the Horse Protection Act, its regulations, and certifying programs are effective.

Description of Respondents: Business or other for-profit; Farms.

Number of Respondents: 1.514.

Frequency of Responses: Recordkeeping; Reporting: Quarterly; Monthly; Annually.

Total Burden Hours: 2,357.

Food and Nutrition Service

Title: Negative Quality Control Review Schedule; Status of Sample Selection and Completion.

OMB Control Number: 0584-0034.

Summary of Collection: The legislative basis for the operation of the quality control system is provided by section 16 of the Food Stamp Act of 1977. State agencies are required to perform Quality Control (QC) reviews for the Food Stamp Program (FSP). As part of the Performance Reporting System, each State agency is required to provide a systemic means of determining the accuracy of household eligibility and measuring the extent to which households receive the food stamp allotment to which they are entitled. Section 275.21(a) requires State agencies to submit reports to enable the Food and Nutrition Service (FNS) to monitor their compliance with Program requirements relative to the Quality Control Review System. FNS will collect information using forms FNS-245 Negative Case Action Review Schedule and FNS-248 Status of Sample Selection and Completion.

Need and Use of the Information: FNS will collect information to record data in negative case reviews. FNS will also measure program operations and determination of a State's eligibility for enhanced administrative funding and to monitor the progress of sample selection and completion. If the information were not collected, it would delay the awarding of monetary incentives in which the negative error rate played a role.

Description of Respondents: State, Local, or Tribal Government; Federal Government; Individuals or households.

Number of Respondents: 53.

Frequency of Responses: Recordkeeping; Reporting: Weekly; Monthly; Annually.

Total Burden Hours: 123,374.

Food and Nutrition Service

Title: USDA National Hunger Clearinghouse Database Form.

OMB Control Number: 0584-0474.

Summary of Collection: The Food and Nutrition Service (FNS) is interested in maintaining and further developing an information clearinghouse (named “USDA National Hunger Clearinghouse”) for groups that assist low-income individuals and communities concerning nutrition assistance programs or other assistance. Section 26 of the National School Lunch Act, which was added to the Act by Section 123 Pub. L. 102-448 on November 2, 1994 (Appendix A), mandated that FNS enter into a 4 year contract with a non governmental organization to develop and maintain a national information clearinghouse of grassroots organizations working on hunger, food, nutrition, and other agricultural issues, including food recovery. This legislation was further amended on October 13, 1998 by section 112 of Pub. L. 105-336 to extend and increase funding for the clearinghouse (for fiscal years 1999 through 2003). The USDA National Hunger Clearinghouse uses state-of-the art computer and telecommunications technologies to connect the target audience, sharing information on effective program models, pending legislation and rule makings, surplus and emergency food distribution networks, and USDA programs and policies.

Need and Use of the Information: FNS will collect information to provide a resource for groups that assist low-income individuals or communities regarding nutrition assistance program or other assistance. The information provided by the Clearinghouse database enables these groups to do a better job of assisting the target audience.

Description of Respondents: Not-for-profit institutions; Business or other for-profit; Farms.

Number of Respondents: 1,750.

Frequency of Responses: Reporting: Annually.

Total Burden Hours: 146.

Forest Service

Title: Public land use and Values.

OMB Control Number: 0596-New.

Summary of Collection: As part of a continuing research effort to develop and evaluate alternative approaches and methods for obtaining and incorporating public input into land and resource management decision, this information collection will focus mainly on people and their use of public lands. The information collection will include three aspects of public preferences, which are: (1) Objectives (comprised of values and desired outcomes) and preferences related to public land and management, (2) land attributes and people's behaviors and perceived consequences that can be linked to policy and management alternatives (in particular, measurable indicators of changes caused or prevented by policy and management actions), (3) identification of how people evaluate measured indicators of policy and management outcomes and consequences. The Forest Service (FS) will collect information using a survey that will be administered primarily by mail, some telephone contact and some in-person contact.

Need and Use of the Information: The information collected will also help managers and planners broaden and deepen their understanding of the public perceptions of various land management practices and impacts of those practices. Without the information reliable data would not be available on how the public feels about various management policies and means for accomplishing those policies on public lands.

Description of Respondents: Individuals or households.

Number of Respondents: 8,000.

Frequency of Responses: Reporting: On occasion.

Total Burden Hours: 4,000.

Grain Inspection, Packers and Stockyard Administration

Title: Survey of Customers of the Official Grain Inspection and Weighing System.

OMB Control Number: 0580-0018.

Summary of Collection: The United States Grain Standards Act, as amended (7 U.S.C. 71-87) (USGSA), and the Agricultural Marketing Act of 1946, as amended (7 U.S.C. 1621-1627) (AMA), authorizes the Secretary of the United States Department of Agriculture to establish official inspection, grading, and weighing programs for grains and other agricultural commodities. Under the USGSA and AMA, Grain Inspection, Packers and Stockyard Administration (GIPSA's) Federal Grain Inspection Service (FGIS) offers inspecting, weighing, grading, quality assurance, and certification services for a user-fee to facilitate the efficient marketing of grain, oilseeds, rice, lentils, dry peas, edible beans, and related agricultural commodities in the global marketplace. The goal of FGIS and the official inspection, grading, and weighing system is to provide timely, high-quality, accurate, consistent, and professional service that facilitates the orderly marketing of grain and related commodities.

Need and Use of the Information: FGIS will collect information using a survey to determine where and to what extent services are satisfactory, and can be improved. The information will be shared with other managers and program leaders who will be responsible for making any necessary improvements at the office/agency, program, and project level.

Description of Respondents: Business or other for-profit; State, Local or Tribal Government.

Number of Respondents: 1,874.

Frequency of Responses: Reporting: Annually.

Total Burden Hours: 313.

Rural Utilities Service

Title: 7 CFR 1744-C, Advance and Disbursement of Funds—Telecommunications.

OMB Control Number: 0572-0023.

Summary of Collection: Section 201 of the Rural Electrification Act (RE Act) of 1936 authorizes the Administrator of the Rural Utilities Service (RUS) to make loans for the purpose of providing telephone service to the widest practicable number of rural subscribers. A borrower requesting loan advances must submit RUS Form 481, “Financial Requirement Statement” and a description of the advances. A borrower must submit upon request copies of backup documentation relating to the transactions. The information is used to determine what projects the contracts listed on the form relate to. Within a reasonable amount of time, funds are advanced to the borrower for the purposes specified in the statement of purposes.

Need and Use of the Information: The Form 481 is used by RUS to record and control transactions in the construction fund. RUS will collect information and verify that the funds advanced are related directly to loan purposes. If the information were not collected, RUS would not have any control over how loan funds are spent or a record of the balance to be advanced.

Description of Respondents: Business or other for-profit.

Number of Respondents: 645.

Frequency of Responses: Reporting: On occasion.

Total Burden Hours: 2,893.

Rural Utilities Service

Title: 7 CFR Part 1703-H, Deferments of RUS Loan Payments for Rural Development Projects.

OMB Control Number: 0572-0097.

Summary of Collection: Subsection (b) of section 12 of the Rural Electrification Act (RE Act) of 1936, as amended (7 U.S.C. 912), a Rural Utilities Service (RUS) electric or telephone borrower may defer the payment of principal and interest on any insured or direct loan made under the RE Act invest the deferred amounts in rural development projects. The Deferment program is used to encourage borrowers to invest in and promote rural development and rural job creation projects that are based on sound economic and financial analyses.

Need and Use of the Information: RUS will collect information to determine eligibility; purposes for which the deferment amount will be utilized; the term of the deferment the borrower will receive; the cost of the total project and degree of participation in the financing from other sources; verification that the purposes will not violate limitations established in 7 CFR 1703-H. If the information were not collected, RUS would be unable to determine eligibility for a project.

Description of Respondents: Not-for-profit; Business or other for-profit.

Number of Respondents: 1.

Frequency of Responses: Recordkeeping; Reporting: On occasion.

Total Burden Hours: 35.

Rural Utilities Service

Title: 7 CFR part 1775, Technical Assistance Program.

OMB Control Number: 0572-0112.

Summary of Collection: Section 306 of the Consolidated Farm and Rural Development Act (CONACT), 7 U.S.C. 1926, authorizes Rural Utilities Service (RUS) to make loans and grants to public agencies, American Indian tribes, and nonprofit corporations. The loans and grants fund the development of drinking water, wastewater, and solid waste disposal facilities in rural areas with populations of up to 10,000 residents. Nonprofit organizations receive Technical Assistance and Training (TAT) and Solid Waste Management (SMM) grants to help small rural communities or areas identify and solve problems relating to community drinking water, wastewater, or solid waste disposal systems. The technical assistance is intended to improve the management and operation of the systems and reduce or eliminate pollution of water resources.

Need and Use of the Information: RUS will collect information to determine applicant eligibility, project feasibility, and the applicant's ability to meet the grant and regulatory requirements. Failure to collect proper information could result in improper determinations of eligibility and improper use of funds.

Description of Respondents: Not-for-profit institutions.

Number of Respondents: 95.

Frequency of Responses: Reporting: On occasion; Quarterly; Monthly.

Total Burden Hours: 4,986.

Forest Service

Title: Recreation Fee Permit Envelope.

OMB Control Number: 0596-0106.

Summary of Collection: The Land and Water Conservation Fund Act of 1965, section 4(b), and Forest Service regulations at Title 36, Code of Federal Regulations (CFR), § 291.2 authorize the collection of fees at some of the National Forest and Grassland recreation sites. Every year millions of people visit National Forest System recreations sites. At some of these sites, the public is required to pay a fee to use the site. Fees are charged to help cover the costs of operating and maintaining fee sites, areas, and facilities such as campgrounds. The Forest Service (FS) used the Recreation Fee Permit Envelope for collection of these fees. The fee envelope is also used as a tool to collect information from visitors who will assist the FS in improving its facilities and services for future visitors.

Need and use of the Information: FS will collect information to be used for two purposes; First, the information pertaining to the fee (site number, length of stay, amount paid, etc.) will be used to verify the visitor has complied with the fee requirements. Second, visitors will be given the opportunity to provide comments about their visit, the condition of the facilities, and how the FS can improve services to the public. If a visitor elects not to complete the information related to the fee, there will be no way to verify they have paid the required fee.

Description of Respondents: Individuals or households; Business or other for-profit; Not-for-profit institutions.

Number of Respondents: 400,000.

Frequency of Responses: Reporting: Other (per visit).

Total Burden Hours: 20,000.

National Appeals Division

Title: National Appeals Division Customer Service Survey

OMB Control Number: 0503-NEW.

Summary of Collection: The National Appeals Division (NAD) proposes to conduct a customer service survey by mail pursuant to Executive Order No. 12862. The Secretary of Agriculture established NAD on October 20, 1994, by Secretary's Memorandum 1010-1, pursuant to the Federal Crop Insurance Reform and Department of Agriculture Reorganization Act of 1994. The Act consolidated the appellate functions and staff of several USDA Agencies and provided for independent hearings and reviews of adverse decisions of Agencies within USDA. Hearing Officers conduct evidentiary hearings on adverse decisions or, when the appellant requests they review the Agency's record of the adverse decision without a hearing. Although NAD maintains a database to track appeal requests, the database contains only information necessary to process the appeal request, such as the name, address, filing results etc. NAD will collect information using a survey.

Need and Use of the Information: NAD will collect information to gauge the appellant's preference for face-to-face hearings, telephone hearings or record reviews, perception of the fairness of the appeal process, how the hearing was conducted, how impartial was the proceeding, appellant treatment, timeliness, and how understandable the final determination. NAD managers to set Customer Service Standards, and make adjustments and improvements to NAD processes, including type of appeal and clarity of NAD notices and determinations, will use the results of the annual survey.

Description of Respondents: Farms; Individuals or households; Not-for-profit institutions; Business or other for-profit; State, Local or Tribal Government.

Number of Respondents: 1176.

Frequency of Responses: Reporting: Annually.

Total Burden Hours: 294.

Natural Resources Conservation Service

Title: Long Term Contracting.

OMB Control Number: 0578-0013.

Summary of Collection: The Long term Contracting regulations at 7 CFR part 630, and the Conservation program regulations at 7 CFR parts (12, 610, 622, 624, 631, 632, 633, 634, 636, 701, 702, 752, 1410, 1465, 1466, 1467 and 1491) set forth the basic policies, program provisions, and eligibility requirements for owners and operators to enter into and carry out long-term conservation program contracts with technical assistance under the various programs. These programs authorize federal technical and financial cost sharing assistance for conservation treatment with eligible land users. The financial assistance is based on a conservation plan that is made a part of an agreement or contract for a period of no less than one year. Under the terms of the agreement, the participant agrees to apply, or arrange to apply, the conservation treatment specified in the conservation plan. In return for this agreement, federal cost-share payments are made to the land user, or third party, upon successful application of the conservation treatment.

Need and Use of the Information: Natural Resource and Conservation Service (NRCS) will collect information on cost sharing and technical assistance, making land use changes and install measure to conserve, develop and utilize soil, water, and related natural resources on participants land. NRCS uses the information to ensure the proper utilization of program funds, including application for participation, easement acquisition, contract implementation, conservation planning, and application for payment.

Description of Respondents: Individuals or households; Farms; Not-for-profit institutions; State, Local or Tribal Government.

Number of Respondents: 383,312.

Frequency of Responses: Reporting; Annually, Other.

Total Burden Hours: 755,152.

Ruth Brown,
Departmental Information Collection Clearance Officer.

[FR Doc. 03-15271 Filed 6-16-03; 8:45 am]

BILLING CODE 3410-01-M